FEDERAL COMMUNICATIONS COMMISSION

47 CFR Part 73

[DA 06-340; MB Docket No. 05-33; RM-10756]

Radio Broadcasting Services; Cuney, TX

AGENCY: Federal Communications Commission.

ACTION: Final rule.

SUMMARY: This document grants a petition filed by Charles Crawford, requesting the allotment of Channel 259A at Cuney, Texas, as its first local service. See 70 FR 8334, published February 18, 2005. Channel 259A can be allotted at Cuney consistent with the Commission's minimum spacing requirements, provided there is a site restriction of 6.8 kilometers (4.3 miles) southeast of the community, using reference coordinates 31-58-52 NL and 95-22-24 WL.

DATES: Effective April 3, 2006.

ADDRESSES: Federal Communications Commission, 445 12th Street, SW., Washington, DC 20554.

FOR FURTHER INFORMATION CONTACT: Rolanda F. Smith, Media Bureau, (202) 418-2180.

SUPPLEMENTARY INFORMATION: This is a summary of the Commission's Report and Order, MB Docket No. 05-33, adopted February 15, 2006 and released February 17, 2006. The full text of this Commission decision is available for inspection and copying during normal business hours in the Commission's Reference Center, 445 12th Street, SW., Washington, DC 20554. The complete text of this decision may also be purchased from the Commission's duplicating contractor, Best Copy and Printing, Inc., 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

Part 73 of Title 47 of the Code of Federal Regulations is amended as follows:

PART 73—RADIO BROADCAST SERVICES

1. The authority citation for part 73 continues to read as follows:

Authority: 47 U.S.C. 154, 303, 334, 336.

§ 73.202 [Amended]

2. Section 73.202(b), the Table of FM Allotments under Texas, is amended by adding Cuney, Channel 259A.

Federal Communications Commission.
John A. Karousos,
Assistant Chief, Audio Division, Media Bureau.

[FR Doc. 06-2421 Filed 3-14-06; 8:45 am]

BILLING CODE 6712-01-P